FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011117-054.

Title: United States/Australasia Discussion Agreement.

Parties: ANL Singapore Pte Ltd.; CMA-CGM; Compagnie Maritime Marfret S.A.; Hamburg-Süd; Hapag-Lloyd AG; Mediterranean Shipping Company S.A.; and Pacific International Lines (Pte) Ltd.

Filing Party: Wayne R. Rohde, Esq.; Cozen O'Connor; 1627 I Street NW., Suite 1100; Washington, DC 20006-4007.

Synopsis: The amendment would delete voting requirements from the agreement and change the terms of space charters under the agreement.

Agreement No.: 012032-011.

Title: CMA CGM/MSC/Maersk Line North and Central China-US Pacific Coast Three-Loop Space Charter, Sailing and Cooperative Working Agreement.

Parties: A.P. Moller-Maersk A/S, CMA CGM S.A., and Mediterranean Shipping Company S.A.

Filing Party: Wayne R. Rohde, Esq.; Cozen O'Connor; 1627 I Street NW., Suite 1100; Washington, DC 20006.

Synopsis: The Amendment limits the duration of the existing slot sale, adds a new slot exchange, and adds Vietnam to the geographic scope of the agreement.

Agreement No.: 012285.

Title: Altex/DOCE Space Charter Agreement.

Parties: Altex Chartered, Inc.; and Dole Ocean Cargo Express, Inc.

Filing Party: Wayne Rohde, Esq.; Cozen O'Connor; 1627 I Street NW., Suite 1100; Washington, DC 20006.

Synopsis: The agreement authorizes Altex to charter space to DOCE in the trade from Costa Rica and Colombia to the U.S. East Coast.

By Order of the Federal Maritime Commission.
Dated: June 19, 2014.
Karen V. Gregory,
Secretary.

[FR Doc. 2014-14764 Filed 6-24-14; 8:45 am]

BILLING CODE 6730-01-P